DEPARTMENT OF ENERGY

Federal Energy Regulatory Commission

Combined Notice of Filings

Take notice that the Commission has received the following Natural Gas Pipeline Rate and Refund Report filings:

Filings Instituting Proceedings

Docket Numbers: RP11-2423-000.

Applicants: Colorado Interstate Gas Company.

Description: Colorado Interstate Gas Company submits tariff filing per 154.203: Rate Case Implementation Filing to be effective 10/1/2011.

Filed Date: 08/25/2011.

Accession Number: 20110825-5048.

Comment Date: 5 p.m. Eastern Time on Tuesday, September 06, 2011.

Docket Numbers: RP11-2424-000.

Applicants: Kinder Morgan Louisiana Pipeline LLC.

Description: Kinder Morgan Louisiana Pipeline LLC submits tariff filing per 154.204: Tariff Charge to be effective 10/1/2011.

Filed Date: 08/25/2011.

Accession Number: 20110825-5052.

Comment Date: 5 p.m. Eastern Time on Tuesday, September 06, 2011.

Docket Numbers: RP11-2425-000.

Applicants: Petal Gas Storage, LLC.

Description: Petal Gas Storage, LLC submits tariff filing per 154.402: ACA 2011 to be effective 10/1/2011.

Filed Date: 08/25/2011.

Accession Number: 20110825-5065.

Comment Date: 5 p.m. Eastern Time on Tuesday, September 06, 2011.

Docket Numbers: RP11-2426-000.

Applicants: Paiute Pipeline Company.

Description: Paiute Pipeline Company submits tariff filing per 154.204: Rate Change—CP10-41 to be effective 10/1/2011.

Filed Date: 08/26/2011.

Accession Number: 20110826-5000.

Comment Date: 5 p.m. Eastern Time on Wednesday, September 07, 2011.

Docket Numbers: RP11-2427-000.

Applicants: Gas Transmission Northwest Corporation.

Description: Gas Transmission Northwest Corporation submits tariff filing per 154.402: Annual Charge Adjustment 2011 to be effective 10/1/2011.

Filed Date: 08/26/2011.

Accession Number: 20110826-5015.

Comment Date: 5 p.m. Eastern Time on Wednesday, September 07, 2011.

Docket Numbers: RP11-2428-000.

Applicants: Great Lakes Gas Transmission Limited Partnership Description: Great Lakes Gas Transmission Limited Partnership submits tariff filing per 154.402: Annual Charge Adjustment 2011.

Filed Date: 08/26/2011.

Accession Number: 20110826-5016.

Comment Date: 5 p.m. Eastern Time on Wednesday, September 07, 2011.

Any person desiring to intervene or protest in any of the above proceedings must file in accordance with Rules 211 and 214 of the Commission's Regulations (18 CFR 385.211 and 385.214) on or before 5 p.m. Eastern time on the specified comment date. Protests may be considered, but intervention is necessary to become a party to the proceeding.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: August 26, 2011.
Nathaniel J. Davis, Sr.,
Deputy Secretary.

[FR Doc. 2011-22493 Filed 9-1-11; 8:45 am]

BILLING CODE 6717-01-P